DEPARTMENT OF ENERGY

[GDO Docket No. EA-296-D]

Application for Renewal of Authorization To Export Electric Energy; Rainbow Energy Marketing Corporation

AGENCY: Grid Deployment Office, Department of Energy.

ACTION: Notice of application.

SUMMARY: Rainbow Energy Marketing Corporation (the Applicant or Rainbow) has applied for authorization to transmit electric energy from the United States to Canada pursuant to the Federal Power Act.

DATES: Comments, protests, or motions to intervene must be submitted on or before March 20, 2023.

ADDRESSES: Comments, protests, motions to intervene, or requests for more information should be addressed by electronic mail to Electricity.Exports@hq.doe.gov.

FOR FURTHER INFORMATION CONTACT: Steven Blazek, (240) 474-2780, electricity.exports@hq.doe.gov.

SUPPLEMENTARY INFORMATION: The Department of Energy (DOE) regulates exports of electricity from the United States to a foreign country pursuant to sections 301(b) and 402(f) of the Department of Energy Organization Act (42 U.S.C. 7151(b) and 42 U.S.C. 7172(f)). Such exports require authorization under section 202(e) of the Federal Power Act (16 U.S.C. 824a(e)).

On November 9, 2004, DOE issued Order No. EA-296, which authorized Rainbow to transmit electric energy from the United States to Canada as a power marketer for a two-year term. That authorization expired on November 9, 2006. Subsequent authorization renewals were issued by DOE on September 18, 2007 (Order No. EA-296-A), September 20, 2012 (Order No. EA-296-B), and September 17, 2017 (Order No. EA-296-C). On September 16, 2022, Rainbow filed an application with DOE (Application or App) for renewal of their export authority for an additional five-year term.

In its application, Rainbow states that it “does not own or control any physical electric generation or transmission facilities in the U.S. and does not have any franchised service territory in the U.S.” App at Paragraph (d). Rainbow seeks to renew its authority to “engage in open-ended transactions to export electricity to Canada under terms and conditions to be negotiated in the future.” App at Paragraph (g). Because Rainbow has neither any franchised service territory nor any generation facilities, it represents that the proposed electric power exports under its application are “surplus to the needs of those entities selling electric power to Rainbow.” Id. In other words, the energy will be purchased as excess from third parties such as electric utilities and federal power marketing agencies, pursuant to voluntary agreements, and wheeled over existing transmission facilities owned by third parties. The Applicant further states that all electricity exported by Rainbow will be “transmitted pursuant to arrangements with utilities that own and operate existing transmission facilities and will be consistent with all applicable export limits on transmitting facilities, including those of the border facilities used, and with other terms and conditions contained in existing Presidential Permits and electricity export authorizations associated with these transmission facilities.” Id. Therefore, Rainbow represents that “the proposed export of electricity will not impair the sufficiency of electric supply within the U.S. or impede regional coordination of electric utility planning or operation.” Id.

The existing international transmission facilities to be utilized by the Applicant have been previously authorized by Presidential permits issued pursuant to Executive Order 10485, as amended, and are appropriate for open access transmission by third parties. App at Exhibit C.

Procedural Matters: Any person desiring to be heard in this proceeding should file a comment or protest to the Application at the address provided above. Protests should be filed in accordance with Rule 211 of FERC's Rules of Practice and Procedure (18 CFR 385.211). Any person desiring to become a party to this proceeding should file a motion to intervene at the above address in accordance with FERC Rule 214 (18 CFR 385.214).

Comments and other filings concerning Rainbow's Application should be clearly marked with GDO Docket No. EA-296-D. Additional copies are to be provided directly to Joseph A. Wolfe, Executive Vice President—Rainbow Energy Marketing Corporation, 919 South 7th Street Suite 405, Bismarck, ND 58504, (701) 222-2290, j.wolfe@rainbowenergy.com.

A final decision will be made on the requested authorization after the environmental impacts have been evaluated pursuant to DOE's National Environmental Policy Act Implementing Procedures (10 CFR part 1021) and after DOE evaluates whether the proposed action will have an adverse impact on the sufficiency of supply or reliability of the United States electric power supply system.

Copies of this Application will be made available, upon request, by accessing the program website at https://www.energy.gov/gdo/pending-applications or by emailing Electricity.Exports@hq.doe.gov.

Signing Authority

This document of the Department of Energy was signed on February 13, 2023, by Maria Robinson, Director, Grid Deployment Office, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on February 13, 2023.
Treena V. Garrett,
Federal Register Liaison Officer, U.S. Department of Energy.

[FR Doc. 2023-03435 Filed 2-16-23; 8:45 am]

BILLING CODE 6450-01-P